DEPARTMENT OF COMMERCE

National Oceanic and Atmospheric Administration

RIN 0648-XA341

Marine Mammals; File No. 15324

AGENCY: National Marine Fisheries Service (NMFS), National Oceanic and Atmospheric Administration (NOAA), Commerce.

ACTION: Notice; receipt of application.

SUMMARY: Notice is hereby given that the Alaska Department of Fish and Game, Division of Wildlife Conservation, Juneau, AK has applied for a permit to conduct research on marine mammals in Alaska.

DATES: Written, telefaxed, or e-mail comments must be received on or before May 4, 2011.

ADDRESSES: The application and related documents are available for review by selecting “Records Open for Public Comment” from the Features box on the Applications and Permits for Protected Species (APPS) home page, https://apps.nmfs.noaa.gov, and then selecting File No. 15324 from the list of available applications.

These documents are also available upon written request or by appointment in the following offices:

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Tammy Adams or Laura Morse, (301) 713-2289.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to conduct scientific research on spotted (Phoca largha), ringed (Phoca hispida), bearded (Erignathus barbatus), and ribbon seals (Histriophoca fasciata) in the Bering, Chukchi, and Beaufort seas of Alaska. The purpose of this research is to monitor the status and health of all four species by analyzing samples from the subsistence harvest and by documenting movements and habitat use by tracking animals with satellite transmitters. In addition to sampling harvested seals, the applicant would capture up to 200 individuals of each species per year. Captured seals would be measured and sampled (e.g., blood, blubber, skin, muscle, and whisker), and a subsample of these (120 per year per species) will be fitted with transmitters. The applicant also requests permission to harass non-target seals of each species and authorization for a limited number of research-related mortalities. Results of these studies would be used to monitor the health and status of each of the four species' populations, improve population assessments, and develop mitigation measures to minimize disturbance to these species that are important to the indigenous people of Alaska for subsistence food, materials, and for cultural significance. Samples would be imported from Russia, Canada, Svalbard (Norway) and exported to Canada for analyses.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 29, 2011.
P. Michael Payne,
Chief, Permits, Conservation and Education Division, Office of Protected Resources, National Marine Fisheries Service.

[FR Doc. 2011-7956 Filed 4-1-11; 8:45 am]

BILLING CODE 3510-22-P